DEPARTMENT OF LABOR

Employment and Training Administration

Investigations Regarding Certifications of Eligibility To Apply for Worker Adjustment Assistance and Alternative Trade Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 17, 2008.

Interested persons are invited to submit written comments regarding the subject matter of the investigations to the Director, Division of Trade Adjustment Assistance, at the address shown below, not later than March 17, 2008.

The petitions filed in this case are available for inspection at the Office of the Director, Division of Trade Adjustment Assistance, Employment and Training Administration, U.S. Department of Labor, Room C-5311, 200 Constitution Avenue, NW., Washington, DC 20210.

Signed at Washington, DC, this 28th day of February 2008.
Ralph DiBattista,
Director, Division of Trade Adjustment Assistance.

Appendix—TAA Petitions Instituted Between 2/19/08 and 2/21/08
TA-W | Subject firm (petitioners) | Location | Date of institution | Date of petition
62859 | Fraser NH, LLC (USW) | Gorham, NH | 02/19/08 | 02/14/08
62860 | Ullman, a Division of American Greetings, Corp (Wkrs) | Burgaw, NC | 02/19/08 | 02/14/08
62861 | Tyden Brammall (Wkrs) | Angola, IN | 02/20/08 | 02/14/08
62862 | Liz Claiborne/Dana Buchman (UNITE) | North Bergen, NY | 02/20/08 | 02/19/08
62863 | Orient Engine (Comp) | Falmouth, KY | 02/20/08 | 02/15/08
62864 | Ametek-U.S. Gauge/Hunter Spring/Aerospace and Defense (Wkrs) | Sellersville, PA | 02/20/08 | 02/08/08
62865 | Isola USA Corporation (Comp) | Fremont, CA | 02/20/08 | 02/19/08
62866 | International Automotive Components Group (UAW) | Edinburgh, IN | 02/20/08 | 02/09/08
62867 | Vanity Fair Brands, LP Distribution Center (Comp) | Mission, TX | 02/20/08 | 02/05/08
62868 | West Allis Gray Iron Foundry (Comp) | West Allis, WI | 02/20/08 | 02/18/08
62869 | Columbia Lighting (IBEW) | Spokane, WA | 02/20/08 | 02/11/08
62870 | The Timken Company (Wkrs) | Clinton, SC | 02/21/08 | 02/20/08
62871 | Central Michigan Staffing (State) | Mt. Pleasant, MI | 02/21/08 | 02/20/08
62872 | Littel Fuse, LP (Comp) | Irving, TX | 02/21/08 | 02/20/08
62873 | Alice Manufacturing Co., Inc. (Comp) | Easley, SC | 02/21/08 | 02/15/08
62874 | Fine Pitch Technologies, Inc. (Wkrs) | Wilmington, MA | 02/21/08 | 12/07/07
62875 | Bolton Metal Products Company (UAW) | Bellefonte, PA | 02/21/08 | 02/18/08
62876 | B and P Alloys, Inc. (State) | Waukesha, WI | 02/21/08 | 02/15/08
62877 | Rayloc Division (Wkrs) | Hancock, MD | 02/21/08 | 02/07/08
62878 | Murata Power Solutions (State) | Tucson, AZ | 02/21/08 | 02/19/08
62879 | ZF Sachs (Wkrs) | Florence, KY | 02/21/08 | 02/20/08
62880 | Two Star Dog, Inc. (Comp) | Berkeley, CA | 02/21/08 | 02/20/08
62881 | Ross and Roberts, Inc. (State) | Stratford, CT | 02/21/08 | 02/19/08
62882 | Glaxo Smith Kline (Comp) | Bristol, TN | 02/21/08 | 02/08/08

[FR Doc. E8-4436 Filed 3-6-08; 8:45 am]

BILLING CODE 4510-FN-P